DEPARTMENT OF DEFENSE

Office of the Secretary

Defense Science Board

ACTION: Notice of Advisory Committee Meeting.

SUMMARY: The Defense Science Board (DSB) Task Force on Systems Technology for the Future U.S. Strategic Posture will meet in closed session on November 13-14, 2000, at Offutt Air Force Base, Nebraska. This Task Force will review the likely nature and evolution of potential future strategic challenges to the U.S., advanced technologies for nuclear weapons systems and non-nuclear strategic weapons systems, and advanced C4ISR technology applications for strategic contingencies.

The mission of the Defense Science Board is to advise the Secretary of Defense and the Under Secretary of Defense for Acquisition, Technology & Logistics on scientific and technical matters as they affect the perceived needs of the Department of Defense. At this meeting, the Defense Science Board Task Force will consider the extent to which technologies and systems currently being developed and applied for regional contingencies are relevant and applicable to future strategic contingencies; take into account affordability and arms control constraints; look at possible further future ballistic missile defense technology to the extent that ballistic missile defense relates to the overall future strategic posture; and consider strategies for using the national strategic technology base to deal with, or hedge against, the uncertainties and ambiguities inherent in the nature and timing of emergence of possible strategic threats, including possible dissuasion of such threats; and, consider the capability of the technology and industrial base to respond in time to long-term strategic warning in various forms, including the adequacy and responsiveness of DoD's science and technology programs.

In accordance with Section 10(d) of the Federal Advisory Committee Act, Pub. L. 92-463, as amended (5 U.S.C. App. II, (1994)), it has been determined that this Defense Science Board meeting concerns matters listed in 5 U.S.C. § 552b(c)(1) (1994), and that accordingly these meetings will be closed to the public.

Dated: October 18, 2000.
L.M. Bynum,
Alternate OSD Federal Register Liaison Officer, Department of Defense.

[FR Doc. 00-27202 Filed 10-23-00; 8:45 am]

BILLING CODE 5001-10-M